ENVIRONMENTAL PROTECTION AGENCY

[FRL-7627-5]

National Drinking Water Advisory Council; Request for Water Security Working Group Nominations

AGENCY: Environmental Protection Agency.

ACTION: Notice.

SUMMARY: The U.S. Environmental Protection Agency (EPA or Agency) is announcing the formation of the Water Security Working Group (WSWG) of the National Drinking Water Advisory Council, and soliciting all interested persons to nominate qualified individuals to serve a one-year term. Any interested person or organization may nominate qualified individuals for membership on the working group.

Background: Homeland Security Presidential Directive 7 designates EPA as the sector-specific agency for the security of the nation's drinking water and wastewater sectors. In order to assist the water sector in becoming more secure against malevolent threats, the Agency is facilitating the development of voluntary best security practices and policies for drinking water and wastewater facilities. The National Drinking Water Advisory Council (NDWAC), established under the Safe Drinking Water Act, as amended (42 U.S.C. 300f et seq.), provides practical and independent advice, consultation and recommendations to the Agency on the activities, functions and policies related to the implementation of the Safe Drinking Water Act. On February 10, 2004, NDWAC voted on and approved the formation of the Water Security Working Group. After this working group completes their charge, they will make recommendations to the full NDWAC. The full NDWAC will in turn, make appropriate recommendations to the EPA. For a general description of the working group charge, the criteria for selecting working group members, and the specific directions for submitting working group member nominations, please see the SUPPLEMENTARY INFORMATION section.

DATES: Submit nominations via U.S. mail on or before March 29, 2004.

ADDRESSES: Address all nominations to Marc Santora, Designated Federal Officer, National Drinking Water Advisory Council Water Security Working Group, U.S. Environmental Protection Agency, Office of Ground Water and Drinking Water, Water Security Division (Mail Code 4601-M), 1200 Pennsylvania Avenue, NW., Washington, DC, 20460.

FOR FURTHER INFORMATION CONTACT: E-mail your questions to Marc Santora, Designated Federal Officer, santora.marc@epa.gov, or call 202-564-1597.

SUPPLEMENTARY INFORMATION:

Working Group Charge: The charge for the Water Security Working Group (WSWG) is to provide recommendations to the full NDWAC that: (1) Identify, compile, and characterize best security practices and policies for drinking water and wastewater utilities and provide an approach for considering and adopting these practices and policies at a utility level; (2) consider mechanisms to provide recognition and incentives that facilitate a broad and receptive response among the water sector to implement these best security practices and policies, and make recommendations as appropriate; (3) consider mechanisms to measure the extent of implementation of these best security practices and policies, identify the impediments of their implementation, and make recommendations as appropriate.

Selection Criteria: The criteria for selecting WSWG members are as follows: the WSWG members are recognized experts in their fields; the WSWG members are as impartial and objective as possible; the WSWG members collectively represent an array of backgrounds and perspectives within the water sector and related disciplines (e.g. public health, emergency response); and the WSWG members are available to fully participate in the working group. The schedule remains flexible, however, it is estimated that WSWG's meetings will be convened by spring of 2004 and will be conducted over a relatively short time frame, approximately one (1) year. Over the course of this period, WSWG members will be asked to attend a series of meetings, a maximum of five (5), participate in conference calls and video conferencing as necessary, participate in the discussion of key issues at all meetings, and review and finalize the products and outputs of the working group. The EPA is looking to create a diverse WSWG. Potential WSWG nominations could include individuals from the wastewater and drinking water industries, stakeholder organizations, state and local officials, public health officials, environmental organizations, emergency first responders, and security experts. The Agency is looking for a range of industry representation in terms of the size of the population served, as well as investor and publicly owned and operated facilities. This is not an exhaustive list; it is only intended to provide a framework to consider potential nominees.

Nomination of a Member: Any interested person or organization may nominate qualified individuals for membership to the working group. Name, occupation, position, address, and telephone number should identify all nominees. To be considered, all nominations must include a current resume providing the nominee's background, experience and qualifications, in addition to a statement (not to exceed two 2 paragraphs) about their particular expertise and interest in water security. Please note that the Agency will not formally acknowledge or respond to nominations.

Dated: February 24, 2004.
Cynthia C. Dougherty,
Director, Office of Ground Water and Drinking Water.

[FR Doc. 04-4387 Filed 2-26-04; 8:45 am]

BILLING CODE 6560-50-P